NUCLEAR REGULATORY COMMISSION

Notice of Availability of Interim Staff Guidance Documents for Spent Fuel Storage and Transportation Casks

AGENCY: Nuclear Regulatory Commission.

ACTION: Notice of availability.

FOR FURTHER INFORMATION CONTACT: Robert Einziger, Materials Engineer, Structural and Materials Section, Spent Fuel Project Office, Office of Nuclear Material Safety and Safeguards, U.S. Nuclear Regulatory Commission, Washington, DC 20005-0001. telephone: (301) 415-2597; fax number: (301) 415-8555; e-mail: ree1@nrc.gov.

SUPPLEMENTARY INFORMATION:

I. Introduction

The Nuclear Regulatory Commission (NRC) prepares draft Interim Staff Guidance (ISG) documents for spent fuel storage or transportation casks or radioactive materials transportation package designs. These ISG documents provide clarifying guidance to the NRC staff when reviewing licensee integrated safety analyses, license applications or amendment requests or other related licensing. The NRC is soliciting public comments on Draft ISG-22, “Potential Rod Splitting Due to Exposure to an Oxidizing Atmosphere During Short-Term Cask Loading Operations in LWR or Other Uranium Oxide Based Fuel,” which will be considered in the final version or subsequent revisions.

II. Summary

The purpose of this notice is to provide the public an opportunity to review and comment on the Draft Interim Staff Guidance-22 concerning exposure of spent fuel to an oxidizing atmosphere during the air blowdown operation. Draft Interim Staff Guidance-22, Revision 0, provides guidance to NRC staff on what documents should be reviewed and evaluated to ensure that sufficient controls are in place to prevent any part of the fuel rods from being exposed to an oxidizing atmosphere.

III. Further Information

Documents related to this action are available electronically at the NRC's Electronic Reading Room at http://www.nrc.gov/reading-rm/doc-collections/isg/spent-fuel.html. From this site, you can access the NRC's Agencywide Documents Access and Management System (ADAMS), which provides text and image files of NRC's public documents. The ADAMS accession numbers for the documents related to this notice are provided in the following table. If you do not have access to ADAMS or if there are problems in accessing the documents located in ADAMS, contact the NRC Public Document Room (PDR) Reference staff at 1-800-397-4209, 301-415-4737, or by e-mail to pdr@nrc.gov.

Interim staff guidance | ADAMS accession number
Interim Staff Guidance-22 | ML052560673

These documents may also be viewed electronically on the public computers located at the NRC's PDR, O 1 F21, One White Flint North, 11555 Rockville Pike, Rockville, MD 20852. The PDR reproduction contractor will copy documents for a fee. Comments and questions on the draft SFPO ISG-21 should be directed to the NRC contact listed below by December 30, 2005. Comments received after this date will be considered if it is practical to do so, but assurance of consideration cannot be given to comments received after this date. Christopher Brown, Materials Engineer, Structural and Materials Section, Spent Fuel Project Office, Office of Nuclear Material Safety and Safeguards, U.S. Nuclear Regulatory Commission, Washington, DC 20005-0001. Comments can also be submitted by telephone, fax, or e-mail, which are as follows: telephone: (301) 415-2597; fax number: (301) 415-8555; e-mail: ree1@nrc.gov.

Dated at Rockville, Maryland, this 31st day of October, 2005.
For the Nuclear Regulatory Commission.
Gordon Bjorkman,
Chief, Structural and Materials Section, Spent Fuel Project Office, Office of Nuclear Material Safety and Safeguards.

[FR Doc. E5-6268 Filed 11-14-05; 8:45 am]

BILLING CODE 7590-01-P